DEPARTMENT OF HEALTH AND HUMAN SERVICES

National Institutes of Health

Office of the Director; Amended Notice of Meeting

Notice is hereby given of a change in the meeting of the Advisory Committee to the Director, National Institutes of Health, September 5, 2014, 3:00 p.m. to 4:00 p.m., that was published in the Federal Register on Monday, August 11, 2014, 79 FR 46843-46844.

This meeting is open to the public but is being held by teleconference only. No physical meeting location is provided for any interested individuals to listen to and/or participate in the meeting. Any individual interested in listening to the meeting discussions must call: 800-779-9082 and use Passcode: ACD Teleconference, for access to the meeting.

In addition, any individual or organization interested in filing comments with the committee must submit their comments electronically to the Contact Person at woodgs@od.nih.gov.

Dated: August 13, 2014.
Anna Snouffer,
Deputy Director, Office of Federal Advisory Committee Policy.

[FR Doc. 2014-19599 Filed 8-18-14; 8:45 am]

BILLING CODE 4140-01-P